DEPARTMENT OF THE TREASURY

Internal Revenue Service

Advisory Committee to the Internal Revenue Service; Meeting

AGENCY: Internal Revenue Service (IRS), Treasury.

ACTION: Notice of meeting.

SUMMARY: The Information Reporting Program Advisory Committee (IRPAC) will hold a public meeting on Wednesday, December 11, 2013.

FOR FURTHER INFORMATION CONTACT: Ms. Caryl Grant, National Public Liaison, CL:NPL:SRM, Rm. 7559, 1111 Constitution Avenue NW., Washington, DC 20224. Phone: 202-317-6851 (not a toll-free number). Email address: PublicLiaison@irs.gov.

SUPPLEMENTARY INFORMATION: Notice is hereby given pursuant to section 10(a)(2) of the Federal Advisory Committee Act, 5 U.S.C. App. (1988), that a public meeting of the IRPAC will be held on Wednesday, December 11, 2013 from 9:00 a.m. to 12:00 p.m. at Embassy Suites Washington DC, 1250 22nd Street NW., Washington, DC 20037.

Report recommendations on issues that may be discussed include: Cost Basis Reporting; De minimis Threshold for Form 1099 Corrections; Employer and Insurer Reporting Under the Patient Protection and Affordable Care Act; Foreign Account Tax Compliance Act; Notice 2013-43; Treatment of Expiring Chapter 3 Documentation; Electronic Transmission of Tax documentation; Presumption Rules for Certain Exempt Recipients; Treatment of Foreign Branches Located in Intergovernmental Agreement Countries; Reason to Know Standards Under Chapters 3 and 4; Coordinated Account System Rules; New Forms W-8, W-9, 1042 and 1042-S; Reporting Obligations With Respect to Foreign Investment Funds; Erroneous 1099-MISC Reporting; Form W-9 and Instructions—Revision; Business Master File (BMF)—additional addresses; Missing TINS for Employer and Insurer Reporting; Minimum Essential Coverage, Premium Tax Credit Educational Materials; Employer Reporting of Purchase Price Discount for Qualifying Dispositions in Employee Stock Purchase Plans; Expand Eligibility to Use the Taxpayer Identification Number (TIN) Matching Program to Improve the Accuracy of Information Reporting; IRC § 6050W and Form 1099-K Reporting; Taxpayer Identification Number (TIN) Truncation; Stripped Tax Credits; Form 1098-T; Form 8300; Withholding and Reporting on Payments for Freight, Shipping and Other Transportation Expenses under IRC § 1441 and § 1442; Revenue Procedure 95-48, and Third-Party Sick Pay Reporting. Last minute agenda changes may preclude advance notice. Due to limited seating and security requirements, please call or email Caryl Grant to confirm your attendance. Ms. Grant can be reached at 202-317-6851 or PublicLiaison@irs.gov. Should you wish the IRPAC to consider a written statement, please call 202-317-6851, or write to: Internal Revenue Service, Office of National Public Liaison, CL:NPL:SRM, Room 7559, 1111 Constitution Avenue NW., Washington, DC 20224 or email: PublicLiaison@irs.gov.

November 18, 2013.
John Lipold,
Designated Federal Official, Branch Chief, National Public Liaison.

[FR Doc. 2013-28140 Filed 11-21-13; 8:45 am]

BILLING CODE 4830-01-P'